ENVIRONMENTAL PROTECTION AGENCY

[FRL-8523-9]

Notification of a Public Teleconference of the Science Advisory Board Exposure and Human Health Committee

AGENCY: Environmental Protection Agency (EPA).

ACTION: Notice.

SUMMARY: The EPA Science Advisory Board (SAB) Staff Office announces a public teleconference of the SAB Exposure and Human Health Committee (EHHC) to discuss advisory activities for the coming year.

DATES: The SAB will hold a public teleconference on February 29, 2008. The teleconference will be held from 2 p.m. to 4 p.m. (Eastern Time).

ADDRESSES: The teleconference will be conducted by telephone only.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the EPA SAB Web site at: http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA's Office of the Science Advisor (OSA) has requested that the SAB EHHC evaluate three Agency activities in the coming year. EPA will provide introductory briefings to the committee on: (1) Exposure Assessment Guidelines; (2) Immunosuppression Guidance; and (3) Microbial Risk Assessment Guidance Document. The Agency will offer these briefings to acquaint the EHHC with the Agency's activities in preparation for future meetings. Preliminary background information on these activities follows.

Exposure Assessment Guidelines: The practice of exposure assessment has been evolving rapidly and has changed significantly since the 1992 publication of EPA's Guidelines for Exposure Assessment. The science has advanced in the areas of personal monitoring and modeling, activity pattern analysis, and susceptible populations and life stages. The EPA has published specific guidance in such areas as probabilistic analyses, exposure factors, aggregate exposure and cumulative risk, and community-based research. The update incorporates and refers to advances and changes in the theory and practice of exposure assessment. The SAB provided a consultation on the general goals, topic areas, and approach for the update in September 2006 (SAB letter dated February 28, 2007, EPA-SAB-07-003). The SAB is asked to provide peer review, and to comment specifically on the scope and content of the updated Guidelines, the completeness and clarity of the text, the suitability of figures and tables, and the inclusion of appropriate emerging areas in this field.

Immunosuppression Guidance: The Agency is developing a guidance document for interpreting changes in the activity or histology of components of the immune system to identify hazards from exposure to environmental stressors. The immune system is a complex array of components that work both independently and in concert with other components to protect humans against infection and suppress the spread of neoplasia. Given this complexity, the Agency is soliciting input from the SAB on the direction and scope of the draft guidance document.

Microbial Risk Assessment Guidance Document: EPA is working with other government agencies to develop guidance for microbial risk assessment. The draft document is intended to reflect the issues and approaches of all contributing agencies, from which EPA will derive its own internal guidance, specific to the regulatory mandates of the program offices. The EPA has requested a consultation with the SAB EHHC on the content and direction of a draft microbial risk assessment guidance document to determine if its approach is appropriate and the content adequate.

Availability of Materials: The draft agenda and other materials will be posted on the SAB Web site at: http://www.epa.gov/sab prior to the teleconference.

Procedures for Providing Public Input: Interested members of the public may submit relevant written or oral information for the SAB to consider during the public teleconference and/or meeting on the topics included in this advisory activity and/or the group conducting the activity. Oral Statements: In general, individuals or groups requesting an oral presentation at a public SAB teleconference will be limited to three minutes per speaker, with no more than a total of one-half hour for all speakers. To be placed on the public speaker list, interested parties should contact Dr. Sue Shallal, DFO, in writing (preferably via e-mail), by February 22, 2008, at the contact information noted above. Written Statements: Written statements should be received in the SAB Staff Office in accordance with the dates mentioned above so that the information may be made available to the SAB for their consideration prior to each teleconference. Written statements should be supplied to the DFO in the following formats in electronic copy via e-mail (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the teleconference, to give EPA as much time as possible to process your request.

Dated: January 25, 2008.
Anthony F. Maciorowski,
Deputy Director, EPA Science Advisory Board Staff Office.

[FR Doc. E8-1913 Filed 1-31-08; 8:45 am]

BILLING CODE 6560-50-P